DEPARTMENT OF COMMERCE

International Trade Administration

[A-570-929]

Small Diameter Graphite Electrodes From the People's Republic of China: Notice of Partial Rescission of Antidumping Duty Administrative Review; 2018-2019

AGENCY: Enforcement and Compliance, International Trade Administration, Department of Commerce.

SUMMARY: On May 2, 2019, The Department of Commerce (Commerce) published a notice of initiation of an administrative review of the antidumping duty order on small diameter graphite electrodes from the People's Republic of China (China). Based on the timely withdrawal of the requests for review of certain companies, we are now rescinding this administrative review for the period February 1, 2018, through January 31, 2019, with respect to 198 companies.

DATES: Applicable July 23, 2019.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On February 26, 2009, Commerce published in the Federal Register the antidumping duty order on small diameter graphite electrodes from China.¹ On February 8, 2019, Commerce published a notice of opportunity to request an administrative review of the antidumping duty order on small diameter graphite electrodes from China for the period of review February 1, 2018, through January 31, 2019.²

¹ See Antidumping Duty Order: Small Diameter Graphite Electrodes from the People's Republic of China, 74 FR 8775 (February 26, 2009).

² See Antidumping or Countervailing Duty Order, Finding, or Suspended Investigation; Opportunity to Request Administrative Review, 84 FR 2816 (February 8, 2019).

On February 28, 2019, Tokai Carbon GE LLC (the petitioner) ³ requested an administrative review of the order for 199 producers and/or exporters of the subject merchandise.⁴ On May 2, 2019, in accordance with section 751(a) of the Tariff Act of 1930, as amended (the Act), and 19 CFR 351.221(c)(1)(i), we initiated an administrative review of the order on small diameter graphite electrodes from China with respect to 199 companies.⁵ On July 11, 2019, the petitioner withdrew its request for an administrative review of 198 out of the 199 companies listed in its review request.⁶ See the Initiation Notice for the full list of companies for which Commerce initiated a review.

³ Formerly, SGL Carbon LLC and Superior Graphite Co.

⁴ See the petitioner's submission, “Small Diameter Graphite Electrodes from the People's Republic of China—Request for Initiation of Antidumping Administrative Review,” dated February 28, 2019.

⁵ See Initiation of Antidumping and Countervailing Duty Administrative Reviews, 84 FR 18777 (May 2, 2019) (Initiation Notice).

⁶ See the petitioner's submission, “Small Diameter Graphite Electrodes from the People's Republic of China—Petitioner's Withdrawal of Certain Requests for Review,” dated July 11, 2019. The petitioner withdrew its review request with respect to all companies except for Fushun Jinly Petrochemical Carbon Co., Ltd.

Partial Rescission of Review

Pursuant to 19 CFR 351.213(d)(1), Commerce will rescind an administrative review, in whole or in part, if the party that requested the review withdraws its request within 90 days of the publication of the notice of initiation of the requested review. In this case, the petitioner timely withdrew its review request, in part, by the 90-day deadline, and no other party requested an administrative review of the antidumping duty order for the companies for which the petitioner withdrew its review request. Therefore, we are rescinding the administrative review of the antidumping duty order on small diameter graphite electrodes from China for the period February 1, 2018, through January 31, 2019, with respect to the 198 companies for which all review requests were withdrawn. The review will continue with respect to the remaining company, Fushun Jinly Petrochemical Carbon Co., Ltd. (aka Fushun Jinli Petrochemical Carbon Co., Ltd.).

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions directly to CBP 15 days after publication of this notice.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

We intend to issue and publish this notice in accordance with sections 751(a)(1) and 777(i)(1) of the Act, and 19 CFR 351.213(d)(4).

Dated: July 17, 2019.
James Maeder,
Deputy Assistant Secretary for Antidumping and Countervailing Duty Operations.

[FR Doc. 2019-15617 Filed 7-22-19; 8:45 am]

BILLING CODE 3510-DS-P